DEPARTMENT OF DEFENSE

Defense Logistics Agency

Notice of Intent To Prepare a Draft Programmatic Environmental Impact Statement for the Long Term Management of the National Defense Stockpile Inventory of Excess Mercury

AGENCY: Defense National Stockpile Center (DNSC).

ACTION: Notice of intent to prepare a draft programmatic environmental impact statement.

SUMMARY: This notice is provided in accordance with the Council on Environmental Quality (CEQ) regulations (40 CFR parts 1500-1508) and the DLAR 1000.22, Environmental Considerations in DLA Actions in the United States, implementing the National Environmental Policy Act (NEPA). DNSC, part of DLA within DoD, will prepare an environmental impact statement (EIS) that will evaluate alternatives for managing the DNSC inventory of excess mercury. DNSC is a mandatory source of supply for raw materials for all Federal Agencies as required by the Federal Acquisition Regulation, Part 8.002 Use of Other Government supply sources. The mercury in the Stockpile has been declared excess to national defense needs and DNSC must decide on long term management of the excess mercury. For the purposes of this EIS, the term “long term management” shall include any potential action to sell or dispose of such material. DNSC is responsible for the safe, secure, and environmentally sound stewardship for all commodities, such as lead, zinc, aluminum oxide, tin and bauxite, in the DNSC inventory, including the inventory of excess mercury. The mercury inventory is currently stored in enclosed warehouses at four different locations: New Haven, IN; Oak Ridge, TN; Somerville, NJ; and Warren, OH. DNSC will use the EIS process to inform the public of how the inventory of excess mercury is currently managed and how it became part of the DNSC. DNSC will also ensure that the public has an opportunity to comment on what could be done regarding its long term management. Public comments are invited and encouraged concerning both the scope of environmental and socioeconomic issues and the long term management alternatives that should be addressed in the EIS. DOE is a cooperating agency for the preparation of this EIS because some of DoD's excess mercury is currently stored at the Department of Energy's (DOE) Y-12 National Security Complex in Oak Ridge, Tennessee.

DATES: Comments on the scope of the issues and alternatives to be addressed in the EIS must be postmarked or e-mailed no later than 30 June 2001.

ADDRESSES: Written comments should be sent to: Project Manager, Mercury Management EIS; DNSC-E; Defense Logistics Agency; Defense National Stockpile Center, 8725 John J. Kingman Road, Suite 4616, Fort Belvoir, Va. 22060-6223. Comments may also be posted to the Mercury Management EIS website at “www.mercuryeis.com” or faxed to (888) 306-8818.

FOR FURTHER INFORMATION CONTACT: Call and leave a voice mail (1-888-306-6682) or fax message (1-888-306-8818) at the Mercury Management EIS toll free number; e-mail your request to “John_Reinders@hq.dla.mil”; or access the Mercury Management EIS website at “www.mercuryeis.com”. For information concerning DOE's NEPA process, contact Ms. Carol Borgstrom, Director, Office of NEPA Policy and Compliance (EH-42), U.S. Department of Energy, 1000 Independence Avenue, SW., Washington DC, 20585. Telephone: 202-586-4610, or leave a message at 1-800-472-2756, or access tis.eh.doe.gov/NEPA.

SUPPLEMENTARY INFORMATION: Background: the Defense National Stockpile program was established by Congress in the Strategic and Critical Materials Stock Piling Act of 1939, as amended, to minimize the United States' dependence on foreign sources of essential materials in times of national emergency. Between 1949 and 1988, the General Services Administration (GSA) and the Federal Emergency Management Agency (FEMA) were responsible for the program. In 1988, the responsibility for the program was delegated to the Secretary of Defense, who assigned the program to DLA. DNSC was established within DLA to manage the program, and is headquartered at Fort Belvoir, VA and operates storage depots nationwide. The stockpile currently includes approximately 68 commodities, including lead, tin, zinc, aluminum oxide, cobalt, bauxite, and mercury.

DNSC is responsible for all activities necessary to provide safe, secure, and environmentally sound stewardship of all commodities in the inventory. Over the past several years as new technologies have evolved and the global economics emerged, Congress had declared most of the DNSC materials to be in excess of national defense needs and has authorized their disposition, generally by sale. Mercury is one of these commodities determined to be in excess to national defense needs.

Mercury is a dense, naturally occurring, silver-colored metallic element that is liquid at room temperature. Sometimes called “quicksilver”, liquid mercury has been used extensively in manufacturing processes because it conducts electricity, reacts to temperature changes, and alloys with other metals. Mercury is used in electrical switches, hospital equipment and supplies, fluorescent lights, conventional lights in automobile interiors, dental fillings, etc.

Mercury is released into the air, water, and soil by a wide variety of natural processes (degassing from rocks and water) and human activities. Mercury that enters the atmosphere can be transported globally. It is removed from the atmosphere through wet and dry deposition upon land and surface water. Mercury in the aquatic environment can be transformed into methylmercury where it can then bioaccumulate to toxic levels in terrestrial and aquatic food chains. Manmade sources include coal combustion, medical and municipal waste incinerators; mining and smelting of mercury ores; mercury cell chloralkali plants; copper and lead smelters; and cement manufacturers. Mercury is designated as a hazardous substance under Section 307(a) of the Clean Water Act, Section 112 of the Clean Air Act, and Section 3001 of the Resource Conservation and Recovery Act.

The DNSC excess inventory of mercury is between 99.5 and 99.9 percent pure mercury. The material is currently stored in steel flasks with each flask containing about 76 pounds (34.5 kilograms) of mercury. The flasks are stored in wooden pallet boxes. Most of the flasks date from the 1940's and 1950's.

The inventory of approximately 4,890 tons (4,440 metric tons) of excess mercury is currently stored in enclosed warehouses at four DNSC sites: Somerville, NJ; New Haven, IN; Oak Ridge, TN; and Warren, OH. Most of the excess inventory, about 2,882 tons (75,980 flasks) is stored at the Somerville Depot in Somerville, NJ. Approximately 770 tons (20,276 flasks) is stored at the U.S. Department of Energy (DOE) Y-12 National Security Complex in Oak Ridge, TN; and 621 tons (16,355 flasks) is stored at the Warren Depot in Warren, OH. The remainder, approximately 614 tons (16,151 flasks), is stored at the Casad Depot, located approximately 3 miles (4.8 kilometers) east of New Haven, IN. Public access to the mercury is restricted by fencing, locked warehouse, security guards, and other measures. DNSC regularly inspects the mercury stockpile to ensure that it is safe and secure.

DNSC, as custodian of the excess inventory of mercury, must decide on a strategy for management of the material. As required by CEQ and DLA NEPA regulations, this decision must include consideration of a range of reasonable management alternatives and the environmental impacts of those alternatives. DNSC has historically sold excess mercury to United States and foreign companies. DNSC voluntarily suspended mercury sales in 1994 in response to concerns raised by the U.S. Environmental Protection Agency (EPA) regarding the accumulation of mercury in the global environment. In 1997, DNSC initiated a draft Environmental Assessment (EA) to support its consideration of options for future management of the stockpiled mercury. DNSC later determined that an EIS was appropriate under NEPA and cancelled the preparation of the EA.

Purpose and Need: DNSC needs to select and implement an environmentally safe and cost effective alternative for the long-term management of excess DNSC mercury.

Proposed Alternatives: As required by CEQ regulations (40 CFR 1502.2[e]), DNSC will evaluate a range of reasonable alternatives in the EIS. These alternatives will include No Action, and are likely to include consolidated long-term storage, processing, disposal, and sales alternatives. DNSC will evaluate the potential environmental and human health impacts of specific alternatives, together with engineering and socioeconomic considerations. A preferred alternative has not been identified at this time.

Under the No Action alternative, the excess inventory of mercury would continue to be stored at the current mercury storage depots, with necessary surveillance and corrective action, as necessary, to maintain safe operations. A consolidated storage alternative could include use of existing flasks, new flasks, or one metric ton containers. Processing alternatives could employ techniques for stabilizing and preventing the potential for toxic exposure to mercury. These would likely include amalgamation and/or solidification technologies that employ alloying with other metals or processing to a stable solid compound (e.g., mercury sulfide). Only those technologies that are available at the time the final EIS decision is made, that are proven environmentally safe, provide for the long-term protection of the public and are cost effective will be evaluated. Stabilized mercury would need to be stored or disposed of in accordance with pertinent local, state and federal regulations, including future regulations that may result from a rule-making that the USEPA is planning in order to address stabilization of elemental mercury. Storage could be in warehouse or bunker-type facilities; disposal could be in near-surface or deeper underground engineered facilities. Sales alternatives are likely to include resumption of unrestricted sales; domestic and/or international restricted sales (i.e., either by end use, purchaser, and/or quantity); or sales with certain restrictions for protection of the environment. DNSC invites comments or suggestions on these alternatives or suggestions of others that should be considered.

Preliminary Identification of Environmental Issues: The following issues have been tentatively identified for analysis in the EIS. The list is preliminary and is intended to facilitate public comment on the scope of this EIS. It is not intended to be all-inclusive nor does it imply any predetermination of potential impacts. DNSC invites suggestions for the addition or deletion of items on this list:

• Potential effects on the public health from exposures to hazardous materials during construction, normal operations, transportation, and credible accident scenarios.

• Impacts on surface and groundwater, floodplains and wetlands, and on water use and quality.

• Impacts on air quality and noise.

• Impacts on plants and animals and their habitat, including species that are Federal- or state-listed as threatened or endangered, or of special concern.

• Impacts on geology, and soil characteristics.

• Impacts on cultural resources such as historic, archaeological, Native American or culturally important sites.

• Socioeconomic impacts on affected communities directly related to the long term management of the excess mercury in the Stockpile.

• Environmental justice, particularly whether or not mercury management activities have a disproportionately high and adverse effect on minority and low-income populations.

• Potential impacts on land-use plans, policies and controls, and visual resources.

• Pollution prevention and waste management practices and activities.

• Economic impacts from mercury sales and resulting effects on mercury mining activities and impacts.

• Unavoidable adverse impacts, and irreversible and irretrievable commitments of resources.

• Potential cumulative environmental effects of past, present, and future operations.

• Status of compliance with all applicable federal, state, and local statutes and regulations and with international agreements, and required federal and state environmental permits, consultations and notifications.

• Compliance with all applicable Executive Orders.

• Natural disasters: floods, hurricanes, tornadoes, and seismic events.

Focus of the Mercury Management EIS will be on minimizing releases of mercury. DNSC anticipates that the key areas of interest will be human health risks, economic impacts, and accumulation of mercury in the global environment. Potential human health risks from storage, processing, and disposal, and from transportation and facility accidents will be evaluated. Consideration will also be given to issues related to accumulation of mercury in the global environment, and will be evaluated at the appropriate level of detail.

Public Participation in the EIS Process: CEQ regulations (40 CFR 1501.7) require an early and open process for determining the scope of an EIS and for identifying the significant issues related to the proposed action. To ensure that the full range of issues related to this proposal are addressed, DNSC invites Federal agencies, state, local and tribal governments, the general public, and the international community to comment on the scope of the Mercury Management EIS, including identification of reasonable alternatives. Additional opportunities for public input will be provided at scoping meetings (see below) and when the draft EIS is issued.

Scoping: The public scoping period begins with the publication of this Notice of Intent in the Federal Register and will continue until 30 June 2001. DNSC will consider all comments received or postmarked by the end of the comment period in defining the scope of this EIS. Comments received after that date will be considered to the extent practicable.

DNSC plans to conduct public scoping meetings in which Federal, state, local and tribal government agencies, nongovernmental organizations, the general public, and the international community are invited to participate in the open exchange of information and to submit comments on the proposed scope of the EIS. These meetings will be held in communities near the facilities where the mercury is currently stored and at regional locations. The dates, times, and exact locations of the scoping meetings will be announced in a separate Federal Register notice at least 15 days before a meeting, posted on the Mercury Management EIS web site, and published in local and regional newspapers.

Issues raised at the scoping meetings will be documented in the Scope of Statement for the Mercury Management EIS. The objectives of this report are to summarize the essence of the comments received in a clear and concise manner and accurately portray the planned scope of the EIS. The Scope of Statement will be distributed to reading rooms near the meeting locations, posted on the EIS web site, and mailed upon request.

Timing: DNSC plans to issue the draft EIS in approximately one year. DNSC and the U.S. Environmental Protection Agency will separately announce availability of the draft EIS in the Federal Register. DNSC will publicize the draft EIS in other media, and will provide federal, state, local and tribal government agencies, nongovernmental organizations, the general public, and the international community with an opportunity to participate in additional information forums and to submit comments.

Requests for Copies of Draft EIS: To receive a copy of the Draft Mercury Management EIS, please submit your request to the addresses provided in this Notice. Members of the public who request a copy of the draft EIS should specify whether they would like a copy of the entire draft EIS (which will consist of multiple bound volumes), the Summary (which will be a single volume), or the draft EIS and Summary on computer CD.

Cooperating Agencies: DOE is a cooperating agency for the preparation of this EIS because some of the excess mercury to be considered in the Mercury Management EIS is currently stored at DOE's Y-12 National Security Complex in Oak Ridge, Tennessee.

Issued in Fort Belvoir, VA, this 30th day of January, 2001.
Richard J. Connelly,
Administrator.

[FR Doc. 01-2911 Filed 2-2-01; 8:45 am]

BILLING CODE 3620-01-M